DEPARTMENT OF EDUCATION

Office of the Secretary

34 CFR Parts 75 and 76

Office for Civil Rights

34 CFR Part 106

Office of Postsecondary Education

34 CFR Parts 606, 607, 608, and 609

[Docket ID ED-2019-OPE-0080]

RIN 1840-AD45

Direct Grant Programs, State-Administered Formula Grant Programs, Non Discrimination on the Basis of Sex in Education Programs or Activities Receiving Federal Financial Assistance, Developing Hispanic-Serving Institutions Program, Strengthening Institutions Program, Strengthening Historically Black Colleges and Universities Program, and Strengthening Historically Black Graduate Institutions Program

AGENCY: Office for Civil Rights, Office of Postsecondary Education, Department of Education.

ACTION: Final rule; corrections.

SUMMARY: In the Federal Register of September 23, 2020, the Department of Education (Department) published a final rule, Direct Grant Programs, State-Administered Formula Grant Programs, Non Discrimination on the Basis of Sex in Education Programs or Activities Receiving Federal Financial Assistance, Developing Hispanic-Serving Institutions Program, Strengthening Institutions Program, Strengthening Historically Black Colleges and Universities Program, and Strengthening Historically Black Graduate Institutions Program (the Final Rule). This document makes two technical corrections to the Final Rule.

DATES: This rule is effective November 23, 2020.

ADDRESSES: Accessible Format: On request to the program contact person listed under FOR FURTHER INFORMATION CONTACT, individuals with disabilities can obtain this document in an accessible format (e.g., braille, large print, audiotape, or compact disc), to the extent reasonably practicable.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

FOR FURTHER INFORMATION CONTACT: Sophia McArdle, U.S. Department of Education, 400 Maryland Avenue SW, Room 290-44, Washington, DC 20202. Telephone: 202-453-6318. Email: Sophia.McArdle@ed.gov.

If you use a telecommunications device for the deaf (TDD) or a text telephone (TTY), call the Federal Relay Service (FRS), toll free at 1-800-877-8339.

SUPPLEMENTARY INFORMATION: In the Final Rule (85 FR 59916), amendatory instruction 10 stated that 34 CFR 76.784 was being added to subpart I of part 76 of the Department's regulations. However, that section is being added to subpart G of part 76, so we are issuing this correction to revise the instruction accordingly. In addition, we are correcting the document by removing one sentence which was inadvertently included in the preamble, regarding the Regulatory Identification Number.

Corrections

In FR Doc. 2020-20152 appearing on page 59916 of the Federal Register of September 23, 2020, the following corrections are made:

1. On page 59919, in the first column, the sentence, “Consequently, there is a new Regulation Identification Number (RIN) for this rule (1840-AD45).” is removed.

§ 76.784 [Corrected]

2. On page 59980, in the third column, instruction 10 is corrected to read “Section 76.784 is added to subpart G to read as follows:”.

Betsy DeVos,
Secretary of Education.

[FR Doc. 2020-21962 Filed 11-5-20; 8:45 am]

BILLING CODE 4000-01-P